DEPARTMENT OF HOUSING AND URBAN DEVELOPMENT

[Docket No. FR-4900-FA-13]

Announcement of Funding Awards for Fiscal Year 2004; Tribal Colleges and Universities Program

AGENCY: Office of the Assistant Secretary for Policy Development and Research, HUD.

ACTION: Announcement of funding awards.

SUMMARY: In accordance with Section 102 (a)(4)(C) of the Department of Housing and Urban Development Reform Act of 1989, this document notifies the public of funding awards for Fiscal Year 2004 Tribal Colleges and Universities Program. The purpose of this document is to announce the names and addresses of the award winners and the amount of the awards which are to be used to enable tribal colleges and universities to build, expand, renovate, and equip their own facilities, especially those that are available to and used by the larger community.

FOR FURTHER INFORMATION CONTACT: Susan Brunson, Office of University Partnerships, Department of Housing and Urban Development, Room 8106, 451 Seventh Street, SW., Washington, DC 20410-6000, telephone (202) 708-3061, ext. 3852. To provide service for persons who are hearing-or-speech-impaired, this number may be reached via TTY by Dialing the Federal Information Relay Service on 800-877-8339 or (202) 708-1455 (Telephone number, other than “800” TTY numbers are not toll free).

SUPPLEMENTARY INFORMATION: The Tribal Colleges and Universities Program was enacted under Section 107 of the CDBG appropriation for Fiscal Year 2004, as part of the “Veterans Administration, HUD and Independent Agencies Appropriations Act of 2004” and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program assist tribal colleges and universities to build, expand, renovate, and equip their own facilities. On May 14, 2004 (69 FR 27077), HUD published a Notice of Funding Availability (NOFA) announcing the availability of $2.9 million in Fiscal Year 2004 funds for the Tribal Colleges and Universities Program. The Department reviewed, evaluated and scored the applications received based on the criteria in the NOFA. As a result, HUD funded five applications.

The Catalog Federal Domestic Assistance number for this program is 14.519.

In accordance with section 102(a) (4)(C) of the Department of Housing and Urban Development Reform Act of 1989 (103 Stat. 1987, 42 U.S.C. 3545), the Department is publishing details concerning the recipients of funding awards, as follows.

List of Awardees for Grant Assistance Under the FY 2004 Tribal Colleges and Universities Program Funding Competition, by Institution, Address, and Grant Amount

Region Five

1. College of Menominee Nation, Holly Burr, P.O. Box 1179, Keshena, WI 54135. Grant: $594,340.

2. Lac Courte Oreilles Ojibwa Community College, Dan James Gretz, 13466 W. Trepania Road, Hayward WI 54843. Grant: $600,000.

Region Eight

3. Cankdeska Cikana Community College, Harold J. McCowan, P.O. Box 269, Fort Totten, ND 58335. Grant: $600,000.

4. Stone Child College, Steve Galbavy, RP1 P.O. Box 1082, Box Elder MT 59521. Grant: $600,000.

5. Si Tanka University, Francine Hall, P.O. Box 220, Eagle Butte, SD 57652.

Grant: $587,960.

Dated: September 14, 2004.
Darlene F. Williams,
General Deputy, Assistant Secretary for Policy Development and Research.

[FR Doc. E4-2282 Filed 9-20-04; 8:45 am]

BILLING CODE 4210-27-P